DEPARTMENT OF HOMELAND SECURITY

Federal Emergency Management Agency

44 CFR Part 67

[Docket ID FEMA-2008-0020; Internal Agency Docket No. FEMA-B-1065]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 7, 2009.

ADDRESSES: The corresponding preliminary Flood Insurance Rate Map (FIRM) for the proposed BFEs for each community is available for inspection at the community's map repository. The respective addresses are listed in the table below.

You may submit comments, identified by Docket No. FEMA-B-1065, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Colfax County, New Mexico, and Incorporated Areas
Ranton Creek | Approximately 450 feet downstream of Kiowa Avenue | None | +6541 | Unincorporated Areas of Colfax County.
| Approximately 150 feet downstream of Kiowa Avenue | None | +6547
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Colfax County
Maps are available for inspection at the Floodplain Manager's Office, 116 South 3rd Street, Raton, NM 87740.
Luna County, New Mexico, and Incorporated Areas
Mimbres River | Approximately 2.1 miles upstream of State Highway 549 Southeast | +4152 | +4151 | Unincorporated Areas of Luna County.
| Approximately 1,500 feet downstream of Interstate Highway 10 | +4280 | +4282
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Luna County
Maps are available for inspection at 201 East Cody Street, Deming, NM 88030.
Taos County, New Mexico, and Incorporated Areas
Bitter Creek | At the confluence with Red River | +8654 | +8659 | Town of Red River, Unincorporated Areas of Taos County.
| Approximately 1,150 feet upstream of High Creek | None | +8696
Red River | Just upstream of High Cost Trail | +8608 | +8612 | Town of Red River, Unincorporated Areas of Taos County.
| Approximately 1.08 miles downstream of Goose Lake Trail 66 | None | +8782 |
Rio Lucero | At the confluence with Rio Pueblo De Taos | None | +6886 | Pueblo of Taos.
| Approximately 0.56 miles upstream of Paseo Del Pueblo Norte Road | None | +6995
Rio Pueblo De Taos | Just upstream of Karavas Road | None | +6886 | Town of Taos, Pueblo of Taos.
| Approximately 600 feet downstream of Paseo Del Pueblo Norte Road | None | +6952
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Pueblo of Taos
Maps are available for inspection at the Floodplain Administrator's Office, 105 Albright Street, Suite A, Taos, NM 87571.
Town of Red River
Maps are available for inspection at 100 East Main Street, Red River, NM 87558.
Town of Taos
Maps are available for inspection at the Planning Department, 400 Camino De La Placita, Taos, NM 87571.
Unincorporated Areas of Luna County
Maps are available for inspection at the Floodplain Administrator's Office, 105 Albright Street, Suite A, Taos, NM 87571.
Cannon County, Tennessee, and Incorporated Areas
East Fork Stones River | Approximately 80 feet downstream of confluence with Lehman Branch | None | +690 | Unincorporated Areas of Cannon County.
| Approximately 40 feet upstream of Dolittle Road | None | +706 |
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Cannon County
Maps are available for inspection at 1 Courthouse Square, Woodbury, TN 37190.
Stewart County, Tennessee, and Incorporated Areas
Tennessee River | County Boundary Between Houston/Stewart Counties, Tennessee (approximately River Mile 74.2) | None | +375 | Unincorporated Areas of Stewart County.
| From the Kennedy/Tennessee state boundary (approximately River Mile 49.2) | None | +375
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Stewart County
Maps are available for inspection at 226 Lakeview Drive, Dover, TN 37058.
DeWitt County, Texas, and Incorporated Areas
Gohlke Creek | Just upstream of Old Clinton Road | None | +166 | Unincorporated Areas of DeWitt County.
| Approximately 800 feet downstream of West Heaton Street | None | +167
SCS Channel | Approximately 1.1 miles downstream of Old Cheapside Road | None | +178 | Unincorporated Areas of DeWitt County.
| Approximately 650 feet downstream of Terrell Street | None | +184
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of DeWitt County
Maps are available for inspection at 307 North Gonzalez Street, Cuero, TX 77954.
Medina County, Texas, and Incorporated Areas
Burnt Boot Creek | Approximately 1,570 feet downstream of the intersection of Thompson Avenue | None | +634 | Unincorporated Areas of Medina County, City of Devine.
| Approximately 0.54 miles upstream of the intersection of RM 92 | None | +700
Chacon Creek | Approximately 1.46 miles downstream of the intersection of Highway 81 | None | +660 | Unincorporated Areas of Medina County, City of Natalia.
| Approximately 698 feet upstream of the intersection of RM 139 | None | +717
East Branch of Live Oak Creek | Approximately 2.28 miles downstream of the intersection of Highway 90 | None | +847 | Unincorporated Areas of Medina County, City of Hondo.
| Approximately 2.02 miles upstream of the intersection of Highway 90 | None | +913
Elm Slough | Approximately 1.13 miles downstream of CR 446 | None | +803 | Unincorporated Areas of Medina County, City of Hondo.
| Approximately 1,987 feet upstream of Co. Highway 443 | None | +888
Flat Creek | Approximately 2.4 miles downstream of the intersection of Highway 90 | None | +720 | Unincorporated Areas of Medina County, City of Castroville.
| Approximately 1.7 miles upstream of the intersection of Highway 90 | None | +784
Fort Ewell Creek | Just upstream of the confluence of Chacon Creek | None | +694 | Unincorporated Areas of Medina County, City of Natalia.
| Just downstream of the intersection of RM 136 | None | +701
Hondo Creek | Approximately 0.50 miles downstream of CR 4526 | None | +839 | Unincorporated Areas of Medina County.
| Approximately 1.29 miles upstream of Vandenburg Road | None | +917
Hondo Creek Tributary | Approximately 873 feet downstream of Highway 173 | None | +862 | Unincorporated Areas of Medina County.
| Approximately 0.62 miles upstream of Highway 173 | None | +878
Kempf Creek | Just upstream of the confluence of Medina River | None | +758 | Unincorporated Areas of Medina County, City of Castroville.
| Approximately 215 feet downstream of the intersection of Farm Road 471 | None | +778
Little Live Oak Creek and flooding effects | Approximately 1.41 miles downstream of the intersection of CR 532 | None | +812 | Unincorporated Areas of Medina County, City of Hondo.
| Approximately 1,011 feet upstream of 19th Street | None | +897
Little Sous Creek | Approximately 4,009 feet downstream of the intersection of Highway 90 | None | +737 | Unincorporated Areas of Medina County.
| Approximately 2.2 miles upstream of the intersection of Highway 90 | None | +827
Medina River | Approximately 0.60 miles downstream of the intersection of Lacoste Road | None | +689 | Unincorporated Areas of Medina County, City of Castroville.
| Approximately 1.8 miles upstream of the confluence of Kempf Creek | None | +767
Parkers Creek | Approximately 2.71 miles downstream of the intersection of FM 2200 | None | +826 | Unincorporated Areas of Medina County.
| Approximately 1.61 miles upstream of the intersection of Highway 90 | None | +914
Polecat Creek | Approximately 0.55 miles downstream of the intersection of Dhanis Street | None | +708 | Unincorporated Areas of Medina County, City of LaCoste.
| Approximately 503 feet upstream of the intersection of FM 471 | None | +722
San Fransisco Perez Creek | Approximately 0.49 miles downstream of the intersection of RM 101 | None | +646 | Unincorporated Areas of Medina County, City of Devine.
| Approximately 1.1 miles upstream of the intersection of RM 90 | None | +699
Seco Creek | Approximately 5.94 miles downstream of the intersection of CR 512 | None | +838 | Unincorporated Areas of Medina County.
| Approximately 4.1 miles upstream of the intersection of CR 428 | None | +935
South Fork San Geronimo Creek | Approximately 786 feet downstream of the confluence of Unnamed Tributary 1 to South Fork San Geronimo Creek | None | +1324 | Unincorporated Areas of Medina County.
| Approximately 947 feet upstream of the confluence of Unnamed Tributary 2 to South Fork San Geronimo Creek | None | +1407
South Polecat Creek | Approximately 0.42 miles downstream of the intersection of Dhanis Street | None | +708 | Unincorporated Areas of Medina County, City of LaCoste.
| Approximately 0.44 miles upstream of the intersection of Contis Avenue | None | +730
Tehuacana Creek | Approximately 1.24 miles downstream of the confluence of East Tehuacana Creek | None | +623 | Unincorporated Areas of Medina County.
| Just downstream of the confluence of West Fork Tehuacana Creek | None | +660
Unnamed Tributary 1 to San Geronimo Creek | Approximately 1.4 miles upstream of the confluence of San Geronimo Creek | None | +1360 | Unincorporated Areas of Medina County.
| Approximately 2.6 miles upstream of the confluence of San Geronimo Creek | None | +1465
Unnamed Tributary 1 to South Fork San Geronimo Creek | Just upstream of the confluence of South Fork San Geronimo Creek | None | +1345 | Unincorporated Areas of Medina County.
| Approximately 1,844 feet upstream of the confluence of South Fork San Geronimo Creek | None | +1371
Unnamed Tributary 2 to South Fork San Geronimo Creek | Just upstream of the confluence of South Fork San Geronimo Creek | None | +1401 | Unincorporated Areas of Medina County.
| Approximately 1,069 feet upstream of the confluence of South Fork San Geronimo Creek | None | +1412
Unnamed Tributary 2 to San Geronimo Creek | Approximately 779 feet upstream of the intersection of RT 37 | None | +1295 | Unincorporated Areas of Medina County.
| Approximately 0.65 miles upstream of the intersection of RT 37 | None | +1339
Unnamed Tributary to Medina Diversion Reservoir | Approximately 1,514 feet downstream of the confluence of Unnamed Tributary to Unnamed Tributary to Medina Diversion Reservoir | None | +1159 | Unincorporated Areas of Medina County.
| Approximately 1.4 miles upstream of the confluence of Unnamed Tributary to Unnamed Tributary to Medina Diversion Reservoir | None | +1242
Unnamed Tributary to Unnamed Tributary to Medina Diversion Reservoir | Just upstream of the confluence of Unnamed Tributary to Medina Diversion Reservoir | None | +1173 | Unincorporated Areas of Medina County.
| Approximately 0.8 miles upstream of the confluence of Unnamed Tributary to Medina Diversion Reservoir | None | +1264
West Branch Little Live Oak Creek | Approximately 0.57 miles downstream of intersection of CR 532 | None | +832 | Unincorporated Areas of Medina County, City of Hondo.
| Approximately 0.39 miles upstream of the intersection of CR 530 | None | +885
West Fork Tehuacana Tributary | Just upstream of the confluence of West Fork Tehuacana Creek | None | +668 | Unincorporated Areas of Medina County.
| Approximately 0.62 miles upstream of CR 732 | None | +699
West Prong Atascosa River | Approximately 295 feet downstream of the intersection of Main Street | None | +693 | Unincorporated Areas of Medina County, City of Lytle.
| Just downstream of the intersection of CR 681 | None | +715
West Tehuacana Creek | Just upstream of the confluence of Tehuacana Creek | None | +662 | Unincorporated Areas of Medina County.
| Approximately 1,258 feet upstream of the intersection of CR 732 | None | +707
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Castroville
Maps are available for inspection at 703 Paris Street, Castroville, TX 78009.
City of Devine
Maps are available for inspection at 303 South Teel Drive, Devine, TX 78016.
City of Hondo
Maps are available for inspection at 1600 Avenue M, Hondo, TX 78861.
City of LaCoste
Maps are available for inspection at 16004 South Front Street, LaCoste, TX 78039.
City of Lytle
Maps are available for inspection at 19325 FM 2790, Lytle, TX 78052.
City of Natalia
Maps are available for inspection at 300 3rd Street, Natalia, TX 78059.
Unincorporated Areas of Medina County
Maps are available for inspection at 709 Avenue Y, Hondo, TX 78861.
Washington County, Texas, and Incorporated Areas
Hog Branch | Approximately 2,500 feet upstream of North Blue Bell Road | None | +240 | Unincorporated Areas of Washington County.
| Approximately 1,000 feet upstream of North Blue Bell Road | None | +249
Little Sandy Creek | Approximately 300 feet upstream of Old Independence Road | None | +240 | Unincorporated Areas of Washington County.
| Approximately 200 feet downstream of Burleson Street | None | +278
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Washington County
Maps are available for inspection at the County Courthouse, 100 East Main, Brenham, TX 77833.
Box Elder County, Utah, and Incorporated Areas
Box Elder Creek | Just upstream of Watery Lane | None | +4236 | City of Brigham City.
| Upstream end of Mayor's Pond spillway | None | +4541
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Brigham City
Maps are available for inspection at 20 North Main Street, Brigham City, UT 84302.

(Catalog of Federal Domestic Assistance No. 97.022, “Flood Insurance.”)

Deborah S. Ingram,
Acting Deputy Assistant Administrator for Mitigation, Mitigation Directorate, Department of Homeland Security, Federal Emergency Management Agency.

[FR Doc. E9-21471 Filed 9-4-09; 8:45 am]

BILLING CODE 9110-12-P